DEPARTMENT OF ENERGY

Notice of Intent To Prepare an Environmental Impact Statement for a Proposed Federal Loan Guarantee To Support Construction of the TX Energy, LLC, Industrial Gasification Facility Near Beaumont, TX

AGENCY: Department of Energy.

ACTION: Notice of Intent to Prepare an Environmental Impact Statement and Conduct a Public Scoping Meeting, and Notice of Proposed Floodplain and Wetland Involvement.

SUMMARY: The U.S. Department of Energy (DOE) announces its intent to prepare an environmental impact statement (EIS) pursuant to the National Environmental Policy Act (NEPA), the Council on Environmental Quality (CEQ) NEPA regulations (40 CFR Parts 1500-1508), and the DOE NEPA implementing procedures (10 CFR Part 1021) to assess the potential environmental impacts for its proposed action of issuing a Federal loan guarantee to TX Energy, LLC (TXE) (DOE/EIS-0412). TXE submitted an application to DOE under the Federal loan guarantee program pursuant to the Energy Policy Act of 2005 (EPAct 2005) to support construction of the TXE Industrial Gasification Facility near Beaumont, Texas (the Facility).¹

¹

The amount requested for the loan guarantee is not being disclosed at this time because it is business sensitive. Moreover, should DOE approve a loan guarantee, the amount may differ from the original request.

TXE is a subsidiary of Eastman Chemical Company (Eastman) and proposes to develop the Facility on a 417-acre parcel of land. The Facility would utilize gasification technology with petroleum coke (petcoke) as the feedstock to produce synthesis gas (a mixture of carbon monoxide (CO) and hydrogen (H2) commonly referred to as syngas) and molten sulfur. The majority of the carbon dioxide (CO2) produced from clean-up of the raw syngas would be captured and transferred from the Facility via a newly constructed pipeline spur (no longer than 2 miles) to a new pipeline for use in enhanced oil recovery (EOR); CO2 not captured would be vented. A portion of the syngas would be processed further to produce pure H2, the majority of which would be sold via a newly constructed pipeline. The balance of the syngas and a portion of the H2 would be piped to a nearby, existing plant via two separate newly constructed 1.5-mile pipelines for processing to methanol and ammonia that would be sold or used by Eastman, the plant owner.

The EIS will evaluate the potential impacts of TXE's proposed project and the range of reasonable alternatives. The purpose of this Notice of Intent is to inform the public about DOE's proposed action; invite public participation in the EIS process; announce plans for a public scoping meeting; and solicit public comments for consideration in establishing the scope and content of the EIS. DOE invites those agencies with jurisdiction by law or special expertise to be cooperating agencies.

The site of the proposed Facility contains floodplains and wetlands, and the footprint of the TXE proposed Facility would affect approximately 52 acres of wetlands and potentially some floodplains. Therefore, DOE hereby gives notice that it will include in the EIS a floodplain and wetland assessment prepared in accordance with the DOE Regulations for Compliance with Floodplain and Wetland Environmental Review Requirements (10 CFR Part 1022).

DATES: To ensure that all of the issues related to this proposal are addressed, DOE invites comments on the proposed scope and content of the EIS from all interested parties. Comments must be postmarked, e-mailed, or faxed by March 20, 2009 to ensure consideration. Late comments will be considered to the extent practicable. In addition to receiving written comments (see ADDRESSES below), DOE will conduct a public scoping meeting in which government agencies, private-sector organizations, and the general public are invited to provide comments or suggestions with regard to the alternatives and potential impacts to be considered in the EIS. The public scoping meeting will be held from 5 p.m. to 9 p.m. on March 5, 2009, at the Beaumont Civic Center Complex, 701 Main St., Beaumont, Texas (see Public Scoping Process below).

ADDRESSES: Written comments on the proposed EIS scope and questions regarding the public scoping meeting should be addressed to: Sharon R. Thomas, Loan Guarantee Program Office (CF-1.3), U.S. Department of Energy, 1000 Independence Avenue, SW., Washington, DC 20585. Electronic submission of comments is encouraged due to processing time required for regular mail. Comments can be submitted electronically to Ms. Thomas by fax: 202-586-4052; or electronic mail: Sharon.R.Thomas@hq.doe.gov.

FOR FURTHER INFORMATION CONTACT: To obtain additional information about the TXE project or this EIS or to receive a copy of the draft EIS when it is issued, contact Ms. Thomas by telephone: 202-586-5335; toll-free number: 1-800-832-0885; or electronic mail: Sharon.R.Thomas@hq.doe.gov. For general information on the DOE NEPA process, please contact: Ms. Carol M. Borgstrom, Director, Office of NEPA Policy and Compliance (GC-20), U.S. Department of Energy, 1000 Independence Avenue, SW., Washington, DC 20585; telephone: 202-586-4600; facsimile: 202-586-7031; electronic mail: askNEPA@hq.doe.gov; or leave a toll-free message at 1-800-472-2756.

SUPPLEMENTARY INFORMATION:

Background

EPAct 2005 established a Federal loan guarantee program for eligible energy projects that employ innovative technologies. Title XVII of EPAct 2005 authorizes the Secretary of Energy to make loan guarantees for a variety of types of projects, including those that “avoid, reduce, or sequester air pollutants or anthropogenic emissions of greenhouse gases; and employ new or significantly improved technologies as compared to commercial technologies in service in the United States at the time the guarantee is issued.” The two principal goals of the loan guarantee program are to encourage commercial use in the United States of new or significantly improved energy-related technologies and to achieve substantial environmental benefits.

Purpose and Need for Agency Action

TXE submitted an application to DOE for a loan guarantee on November 18, 2008, to support construction of the Facility. The purpose and need for agency action is to comply with DOE's mandate under EPAct 2005 by identifying eligible projects that meet the goals of the Act and therefore to determine whether to issue a loan guarantee to TXE to support construction of the proposed Facility.

Proposed Action

DOE's proposed action is to issue a loan guarantee to TXE to support construction of the TXE proposed Facility. The Facility would utilize gasification technology with petcoke as the feedstock to produce syngas (a mixture of CO and H2) and molten sulfur. The Facility is being designed to handle the following inputs: 2.4 million tons of petcoke per year; 120,000 tons of fluxant (a blend of sand and stone) per year; 2.4 million tons of oxygen per year; and 7 billion gallons of water per year. Although not proposed by TXE, coal could also be used as an alternate feedstock. The oxygen required for gasification would be provided by air separation units (ASUs) adjacent to the Facility and owned by another entity. DOE plans to analyze construction and operation of the ASUs in the EIS as a connected action.

The Facility is being designed to produce 150 billion standard cubic feet of syngas per year. Molten sulfur byproduct (150,000 tons per year) would be sold. A portion of the syngas would be used to produce 261 million standard cubic feet of H2 per year. The majority of the H2 would be sold for use in the petroleum refining industry and transferred via a newly constructed pipeline. Cleaning of the raw syngas would be done using Rectisol® Acid Gas Removal technology, licensed from Lurgi, and would produce 5.4 million tons of CO2 per year. TXE anticipates that less than 12 percent of the CO2 produced annually under normal operations would be vented and not captured. The captured CO2 would be transferred via a newly constructed pipeline spur (no longer than 2 miles) to a new pipeline for use in EOR.

The balance of the syngas and a portion of the H2 would be piped via two newly constructed, separate 1.5-mile pipelines to an existing plant owned by Eastman for processing to methanol and ammonia, which would be sold or used by Eastman. DOE plans to analyze the modification and operation of this plant, which is adjacent to the site, as a connected action. The Facility would also include an onsite wastewater treatment plant. Solid waste (slag) from the process would be either sold as a commercial product (e.g., an aggregate substitute) or transported by truck for disposal at a non-hazardous, solid waste landfill. The construction work force would peak at a range of 2000 to 2500 workers. The Facility would be operated and maintained by a staff of approximately 250 employees.

The site of the proposed Facility consists of a 417-acre parcel of land located at 6275 Highway 347 in Jefferson County, Texas, adjacent to the southeast city limits of Beaumont. Construction laydown and parking areas are estimated to use approximately 150 acres. This includes 100 acres leased from the owner of the adjacent facility to the south and an additional 50 acres of land located at and adjacent to the existing Eastman plant.

The site includes a combination of previously developed and undeveloped parcels and is bound by transportation land use (Ohio Street, TX-347W, U.S. 69/287/97, and Martin Luther King Jr. Parkway (US 380)) to the west and southwest and the Neches River to the east and northeast. The Neches River forms the eastern site boundary. The site is topographically flat and consists primarily of urban land cover resulting from historical industrial land uses. Land use around the perimeter of the site consists of early-successional and invasive herbaceous, scrub shrub, and tree species; wetland complexes; and open water habitat associated with the Neches River. The vicinity of the subject property consists of industrial, bulk storage, agricultural, commercial, and residential uses. The region is characterized by land uses traditionally associated with industrial chemical production (e.g., petroleum products, methanol, sulfur products), barge traffic, ports, and associated off-loading facilities.

The site of the proposed Facility contains floodplains and wetlands, and the footprint of the TXE proposed Facility would affect approximately 52 acres of wetlands and potentially some floodplains. These wetlands include a combination of emergent marsh, scrub shrub, and bottomland hardwood. The eastern and northeastern portions of the site (the areas nearest the Neches River) are located within the 100-year floodplain. DOE will prepare a floodplain and wetland assessment in accordance with its regulations at 10 CFR Part 1022 and include the assessment in the EIS.

Alternatives

In determining the range of reasonable alternatives to be considered in the EIS for the proposed TXE Facility, DOE identified the reasonable alternatives that would satisfy the underlying purpose and need for agency action. DOE currently plans to analyze in detail the project as proposed by TXE; subalternatives for coal as a feedstock, solid waste disposal, and CO2 disposition; and the no action alternative. DOE will also analyze mitigation measures as appropriate.

DOE will describe TXE's site selection process in the EIS; however, DOE does not plan to analyze in detail alternative sites considered by TXE in its site selection process. Key factors considered by TXE in selecting the site included the region's strong petroleum refining base, which provides a source for petcoke, a market for H2, and near-term EOR opportunities; the nearby plant that would use the syngas product for the production of methanol and ammonia; and the proximity to infrastructure and surface water. On this basis, DOE believes at this time that there are no other reasonable siting alternatives.

Under the no action alternative, DOE would not provide the loan guarantee for the TXE project. This option would not contribute to the Federal loan guarantee program goals to make loan guarantees for energy projects that “avoid, reduce, or sequester air pollutants or anthropogenic emissions of greenhouse gases; and employ new or significantly improved technologies.”

Preliminary Identification of Environmental Issues

The following environmental resource areas have been tentatively identified for consideration in the EIS. This list is neither intended to be all-inclusive nor a predetermined set of potential environmental impacts. DOE invites comments on whether other resource areas or potential issues should be considered in the EIS:

• Air quality

• Greenhouse gas emissions and climate change

• Energy use and production

• Water resources, including groundwater and surface waters

• Wetlands and floodplains

• Geological resources

• Ecological resources, including threatened and endangered species and species of special concern

• Cultural resources, including historic structures and properties; sites of religious and cultural significance to tribes; and archaeological resources

• Land use

• Visual resources and aesthetics

• Transportation and traffic

• Noise and vibration

• Hazardous materials and solid waste management

• Human health and safety

• Accidents and terrorism

• Socioeconomics, including impacts to community services

• Environmental justice

Public Scoping Process

To ensure that all issues related to DOE's proposed action are addressed, DOE seeks public input to define the scope of the EIS. The public scoping period will begin with publication of the NOI and end on March 20, 2009. Interested government agencies, private-sector organizations, and the general public are encouraged to submit comments concerning the content of the EIS, issues and impacts to be addressed in the EIS, and alternatives that should be considered. Scoping comments should clearly describe specific issues or topics that the EIS should address to assist DOE in identifying significant issues. Comments must be postmarked, e-mailed, or faxed by March 20, 2009 to ensure consideration. (See ADDRESSES). Late comments will be considered to the extent practicable. DOE invites those agencies with jurisdiction by law or special expertise to be cooperating agencies.

A public scoping meeting will be held on March 5, 2009, from 5 p.m. to 9 p.m. at the Beaumont Civic Center Complex, 701 Main St, Beaumont, Texas. Members of the public and representatives of groups and Federal, state, local, and tribal agencies are invited to attend. An informal session at this location will begin at 5 p.m., followed by the opportunity to present oral comments at 7 p.m. Displays and other forms of information about the proposed agency action, the EIS process, and the TXE proposed Facility will be available, with DOE personnel available for discussions with attendees. DOE requests that anyone who wishes to present oral comments at the meeting contact Ms. Sharon R. Thomas by phone, fax, or e-mail (see ADDRESSES). Individuals who do not make advance arrangements to speak may register at the meeting. Speakers who need more than five minutes should indicate the length of time desired in their request. DOE may need to limit speakers to five minutes initially, but will provide additional opportunities as time permits. Written comments regarding the scoping process can also be submitted to DOE officials at the scoping meeting.

Issued in Washington, DC, on February 12, 2009.
Steve Isakowitz,
Chief Financial Officer, Office of the Chief Financial Officer.

[FR Doc. E9-3411 Filed 2-17-09; 8:45 am]

BILLING CODE 6450-01-P